FEDERAL COMMUNICATIONS COMMISSION

47 CFR Part 73

[DA 00-648, MM Docket No. 00-55, RM-9836]

Radio Broadcasting Services; Fredonia and Falconer, NY

AGENCY: Federal Communications Commission.

ACTION: Proposed rule.

SUMMARY: The Commission requests comments on a petition filed by North County Broadcasting, Inc., licensee of Station WCQA, Fredonia, NY, seeking the reallotment of Channel 243A from Fredonia to Falconer, NY, as the community's first local aural service, and the modification of Station WCQA's license accordingly. Channel 243A can be allotted to Falconer in compliance with the Commission's minimum distance separation requirements with a site restriction of 4.0 kilometers (2.5 miles) southwest, at coordinates 42-05-22 NL; 79-13-38 WL, to accommodate petitioner's desired transmitter site. Canadian concurrence in the allotment is required since Falconer is located within 320 kilometers (200 miles) of the U.S.-Canadian border.

DATES: Comments must be filed on or before May 15, 2000, and reply comments on or before May 30, 2000.

ADDRESSES: Federal Communications Commission, 445 12th Street, S.W., Room TW-A325, Washington, DC 20554. In addition to filing comments with the FCC, interested parties should serve the petitioner, or its counsel or consultant, as follows: Daniel C. Fischer, Vice President, North County Broadcasting, Inc., P.O. Box 1199, Jamestown, NY 14701 (Petitioner).

FOR FURTHER INFORMATION CONTACT: Leslie K. Shapiro, Mass Media Bureau, (202) 418-2180.

SUPPLEMENTARY INFORMATION: This is a synopsis of the Commission's Notice of Proposed Rule Making, MM Docket No. 00-55, adopted March 15, 2000, and released March 24, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects 47 CFR Part 73

Radio broadcasting.

Federal Communications Commission.
John A. Karousos,
Chief, Allocations Branch, Policy and Rules Division, Mass Media Bureau.

[FR Doc. 00-8169 Filed 4-3-00; 8:45 am]

BILLING CODE 6712-01-P